ENVIRONMENTAL PROTECTION AGENCY

[FRL-10006-17-OMS]

Privacy Act of 1974; System of Records

AGENCY: Office of Mission Support, Environmental Protection Agency (EPA).

ACTION: Notice of a modified system of records.

SUMMARY: The U.S. Environmental Protection Agency's (EPA) Office of Inspector General (OIG) is giving notice that it proposes to modify an existing system of records, pursuant to the provisions of the Privacy Act of 1974. Inspector General Enterprise Management System (IGEMS) Audit, Assignment, and Timesheet Modules is being modified to change the name of the system from Inspector General Enterprise Management System (IGEMS) Audit, Assignment, and Timesheet Modules to Inspector General Enterprise Management System (IGEMS) Audits, Assignments, and Project Management Actuals Modules. The module is modifying point of contact, system location, retention and disposal, system manager and address, method of retrieval, notification procedures, and the inclusion of the new routine uses identified per OMB M-17-12.

DATES: Persons wishing to comment on this system of records notice must do so by May 8, 2020. New or Modified routine uses for this modified system of records will be effective May 8, 2020.

ADDRESSES: Submit your comments, identified by Docket ID No. EPA-HQ-OEI-2011-0359, by one of the following methods:

Regulations.gov: www.regulations.gov. Follow the online instructions for submitting comments.

Email: oei.docket@epa.gov.

Fax: 202-566-1752.

Mail: OMS Docket, Environmental Protection Agency, Mailcode: 2822T, 1200 Pennsylvania Ave. NW, Washington, DC 20460.

Hand Delivery: OMS Docket, EPA/DC, WJC West Building, Room 3334, 1301 Constitution Ave. NW, Washington, DC. Such deliveries are only accepted during the Docket's normal hours of operation, and special arrangements should be made for deliveries of boxed information.

Instructions: Direct your comments to Docket ID No. EPA-HQ-OEI-2011-0359. The EPA's policy is that all comments received will be included in the public docket without change and may be made available online at www.regulations.gov, including any personal information provided, unless the comment includes information claimed to be Controlled Unclassified Information (CUI) or other information for which disclosure is restricted by statute. Do not submit information that you consider to be CUI or otherwise protected through www.regulations.gov. The www.regulations.gov website is an “anonymous access” system for EPA, which means the EPA will not know your identity or contact information unless you provide it in the body of your comment. Each agency determines submission requirements within their own internal processes and standards. EPA has no requirement of personal information. If you send an email comment directly to the EPA without going through www.regulations.gov your email address will be automatically captured and included as part of the comment that is placed in the public docket and made available on the internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses. For additional information about the EPA's public docket visit the EPA Docket Center homepage at http://www.epa.gov/epahome/dockets.htm.

Docket: All documents in the docket are listed in the www.regulations.gov index. Although listed in the index, some information is not publicly available, e.g., CUI or other information for which disclosure is restricted by statute. Certain other material, such as copyrighted material, will be publicly available only in hard copy. Publicly available docket materials are available either electronically in www.regulations.gov or in hard copy at the OMS Docket, EPA/DC, WJC West Building, Room 3334, 1301 Constitution Ave. NW, Washington, DC. The Public Reading Room is open from 8:30 a.m. to 4:30 p.m., Monday through Friday excluding legal holidays. The telephone number for the Public Reading Room is (202) 566-1744, and the telephone number for the OMS Docket is (202) 566-1752.

FOR FURTHER INFORMATION CONTACT: Stephanie L. Wright, Acting Deputy Assistant Inspector General for Management, (202)-566-0847.

SUPPLEMENTARY INFORMATION:

I. General Information

The EPA OIG is giving notice that it intends to modify an existing system of records. The Inspector General Enterprise Management System (IGEMS) Audit, Assignment, and Timesheet Modules will be changed to Inspector General Enterprise Management System (IGEMS) Audits, Assignments, and Project Management Actuals Modules. The module is modifying point of contact, system location, retention and disposal, system manager and address, method of retrieval, and notification procedures. The System assists the OIG planning and managing audits, evaluations, investigations and other OIG activities. The privacy of individuals is protected through user authentication and system roles, permissions, and privileges. The system is operated and maintained by the Office of Inspector General, Office of Management, Information Technology Directorate (OM-ITD).

System Name and Number:

Inspector General Enterprise Management System (IGEMS) Audits, Assignment and Project Management Actuals Modules. EPA-42.

Security Classification:

Unclassified.

System Location:

Office of Inspector General, Environmental Protection Agency, 1200 Pennsylvania Avenue NW, Washington, DC 20460.

System Manager(s):

USEPA, Office of Management (Mail code 2410T), 1200 Pennsylvania Ave. NW, Washington, DC 20460, Attn: Assistant Inspector General for Management. Tel Number: 202-566-0847, Fax: 202-566-0857.

Authority for Maintenance of the System:

Inspector General Act of 1978, 5 U.S.C. app. 3.

Purpose of the System:

To assist the OIG in planning and managing audits, evaluations, investigations, and other OIG activities. The “Timesheets” module is renamed to the Project Management Actuals (PMA) module. Planning and managing of projects is accomplished using assignment hours posted against the projects by individuals in OIG.

Categories of Individuals Covered by the System:

Office of Inspector General (OIG) employees; individuals who request audits; names of individual auditees.

Categories of Records in the System:

Incoming audit requests, assignment sheets and reports, incoming special project requests, and memorandums or briefing materials, and OIG employee project management actuals which identify time spent on individual projects.

Record Source Categories:

Record subject, OIG supervisors, and other EPA employees.

Routine Uses of Records Maintained in the System, including Categories of Users and Purposes of Such Uses:

The following new routine uses apply to this system because the use of the record is necessary for the efficient conduct of government operations. The routine uses are related to and compatible with the original purpose for which the information was collected. General routine uses A, B, C, D E, F, G, H, I, J, and K apply to this system (73 FR 2245). Records may also be disclosed:

1. To appropriate agencies, entities, and persons when (1) the Agency suspects or has confirmed that there has been a breach of the system of records, (2) the Agency has determined that as a result of the suspected or confirmed breach there is a risk of harm to individuals, the Agency (including its information systems, programs, and operations), the Federal Government, or national security, and (3) the disclosure made to such agencies, entities, and persons is reasonably necessary to assist in connection with the Agency's efforts to respond to the suspected or confirmed breach or to prevent, minimize, or remedy such harm.

2. To another Federal agency or Federal entity, when the Agency determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

Policies and Practices for Storage of Records:

In accordance with OIG Records Management Policy, computer records are maintained in a secure, password protected computer system. Paper records are maintained in lockable file cabinets. All records are maintained in secure, access-controlled areas or buildings.

Policies and Practices for Retrieval of Records:

Audits in the Assignments and Project Management Actuals Modules of the Inspector General Enterprise Management System (IGEMS) are retrieved by assignment number, audit report number, the name of the assigned OIG auditor, or the name of the audit requestor.

Policies and Practices for Retention and Disposal of Records:

Records stored in this system are subject to EPA Records Schedule 1016, which covers records related to operations and programs of the EPA and its external business partners that ensure compliance with applicable laws and regulations and prevent waste, fraud, and abuse.

Administrative, Technical, and Physical Safeguards:

Computer records are maintained in a secure, password protected computer system. All records are maintained in secure, access-controlled areas or buildings. The IGEMS Assignment and Project Management Actuals (PMA) Modules are restricted to the staff of EPA OIG. Roles and permissions are based on either position of the employee, project membership or based on approved requests. The modules are found in IGEMS. IGEMS is accessible to EPA OIG employees only. It is an internal database accessible by use of strong passwords, which are renewed on a regular basis, and automated locking of screens after a defined number of minutes are enforced.

Record Access Procedures:

Persons seeking access to their own personal information in this system of records will be required to provide adequate identification (e.g., driver's license, military identification card, employee badge or identification card). Additional identity verification procedures may be required as warranted. Requests must meet the requirements of EPA regulations at 40 CFR part 16.

Contesting Record Procedures:

Requests for correction or amendment must identify the record to be changed and the corrective action sought. Complete EPA Privacy Act procedures are set out in EPA's Privacy Act regulations at 40 CFR part 16.

Notification Procedure:

Requests to determine whether this system of records contains a record pertaining to you must be sent to the Agency's Privacy Officer at: U.S. Environmental Protection Agency, 1200 Pennsylvania Avenue NW (2831T) Washington, DC 20460; (202) 566-1668; Email: (privacy@epa.gov); Attn: Privacy Officer.

Exemptions Promulgated for the System:

None.

History:

76 FR 42706—Amend an existing system of records by changing the name of the system from the Inspector General Operations & Reporting (IGOR) System Audit, Assignment, and Timesheet Files (EPA-42) to the Inspector General Enterprise Management System (IGEMS) Audit, Assignment, and Timesheet Modules.

66 FR 49950—Established the Inspector General's Operation and Reporting (IGOR) System Audit, Assignment and Timesheet Files. The system is maintained by the EPA Office of Inspector General (OIG). Its purpose is to assist the OIG in planning audits, investigations, and other operations of the OIG; monitoring OIG performance of its activities; and reporting results.

Dated: February 3, 2020.
Vaughn Noga,
Senior Agency Official for Privacy.

[FR Doc. 2020-05912 Filed 4-7-20; 8:45 am]

BILLING CODE 6560-50-P